DEPARTMENT OF THE INTERIOR

National Park Service

Draft South Denali Implementation Plan and Environmental Impact Statement

AGENCY: National Park Service, Interior.

ACTION: Notice of availability of the Draft South Denali Implementation Plan and Environmental Impact Statement.

SUMMARY: The National Park Service (NPS) announces the availability of the Draft South Denali Implementation Plan and Environmental Impact Statement (EIS) for Denali National Park and Preserve. The document describes and analyzes the environmental impacts of a preferred alternative and one action alternative for expanding visitor facilities and access opportunities in the south Denali region. A no action alternative also is evaluated. This notice announces the 60-day public comment period and solicits comments on the draft plan and EIS.

DATES: Written comments on the draft plan and EIS must be received no later than November 21, 2005.

ADDRESSES: Comments on the draft plan and EIS should be submitted to the Superintendent, Denali National Park and Preserve, Post Office Box 9, Denali Park, Alaska 99755. Submit electronic comments to http://parkplanning.nps.gov. The draft EIS may be viewed online at http://www.southdenaliplanning.com. Hard copies or CDs of the Draft South Denali Implementation Plan and EIS are available by request from the aforementioned address.

FOR FURTHER INFORMATION CONTACT: Mike Tranel, Chief of Planning, Denali National Park and Preserve. Telephone: (907) 644-3611.

SUPPLEMENTARY INFORMATION: The National Park Service (NPS) in cooperation with the State of Alaska, and Matanuska Susitna Borough has prepared a draft implementation plan and accompanying EIS for expanded visitor facilities and access opportunities in the south Denali region. The purpose of the plan and EIS is to address the needs of a growing visitor population in the south Denali region for the next two decades. The south Denali region is defined to include the southern portions of Denali National Park and Preserve, Denali State Park in its entirety, and adjoining lands owned and managed by the State of Alaska and the Matanuska Susitna Borough. The implementation plan and EIS was initiated to address the rapidly growing level of visitation, resource management concerns, and anticipated demand for future uses of public lands in the south Denali region.

The draft plan and EIS includes a range of alternatives based on planning objectives, environmental resources, and public input. Each alternative represents a development concept that addresses the needs and concerns of the land managers, local communities, and visitors. Two alternatives in addition to a no-action alternative were developed.

Alternative A (No Action): Under Alternative A, no new actions would be implemented to support the 1997 Record of Decision for the South Side Denali Development Concept Plan except for those projects already approved and initiated. This alternative represents no change from current management direction and therefore represents the existing condition in the south Denali region. However, it does not ensure a similar future condition which could be affected by factors unrelated to this planning effort.

Alternative B: This destination facility in the Peters Hills would serve package tourism, the independent traveler, local school groups, and Alaskan travelers. Access to this facility would be from the Trapper Creek area on the Petersville Road, and a new, seven mile access road. The vision is for a high quality facility that offers a range of opportunities for learning and recreating during the summer months. Development of campgrounds, enhancements to local trail systems and road corridors, and increased interpretive signage are also components of this alternative.

Alternative C (Preferred Alternative): This destination facility would be reached by a new four mile access road from the George Parks Highway, and would serve package tourism, the independent traveler, local school groups, and Alaskan travelers. The vision is for a high quality facility that offers a range of opportunities for learning and recreating from late spring to early fall. It would provide visitors of various abilities a chance to experience a subarctic tundra environment and opportunities to view Mount McKinley and the Alaska Range. Development of campgrounds, enhancements to local trail systems and road corridors, and increased interpretive signage are also components of this alternative.

Informational and Public Meetings

Informational meetings and public hearings will be scheduled in Alaska at the following locations: Anchorage, Fairbanks, Wasilla, Susitna Valley, and McKinley Village. The specific dates and times of the meetings and public hearings will be announced in local media. It is the practice of the National Park Service to make comments, including names and addresses of respondents, available for public review. An individual respondent may request that we withhold his or her address from the record, which we will honor to the extent allowable by law. If you wish to have NPS withhold your name and/or address, you must state this prominently at the beginning of your comments. NPS will make all submissions from organizations or businesses, and from individuals identifying themselves as representatives or officials of organizations or businesses, available for public inspection in their entirety.

Dated: August 18, 2005.
Judy Gottlieb,
Acting Regional Director, Alaska.

[FR Doc. 05-18819 Filed 9-20-05; 8:45 am]

BILLING CODE 4310-70-P